DEPARTMENT OF HEALTH AND HUMAN SERVICES

National Institutes of Health

Submission for OMB Review; 30-Day Comment Request Collection of Customer Service, Demographic, and Smoking/Tobacco Use Information From the National Cancer Institute's Contact Center (CC) Clients (NCI); Correction

AGENCY: National Institutes of Health, HHS.

ACTION: Notice; correction.

SUMMARY: The Department of Health and Human Services, National Institutes of Health published a Notice in the Federal Register on July 27, 2018. That Notice inadvertently contained an error in the Estimated Annualized Burden Hours Table.

FOR FURTHER INFORMATION CONTACT: To request more information on the proposed project or to obtain a copy of the data collection plans and instruments, contact: Mary Anne Bright, Supervisory Public Health Advisor, CCPIB/OCPL, 9609 Medical Center Drive, Rockville, MD 20850, or call non-toll-free number 240-276-6647 or Email your request, including your address to: brightma@mail.nih.gov.

SUPPLEMENTARY INFORMATION: On July 27, 2018, the Department of Health and Human Services, National Institutes of Health published a Notice in the Federal Register on page 35669 (83 FR 35668) that inadvertently contained an error Table A. 12-1—Estimate of Annual Burden Hours. The purpose of this notice is to correct Table A. 12-1—Total Estimate of Annual Burden Hours from 1875 to 1865.

Dated: August 7, 2018.
Karla C. Bailey,
Project Clearance Liaison, National Cancer Institute, National Institutes of Health.

[FR Doc. 2018-17344 Filed 8-10-18; 8:45 am]

BILLING CODE 4140-01-P